DEPARTMENT OF ENERGY

Federal Energy Regulatory Commission

[Docket No. EL07-25-000]

Louisiana Public Service Commission; Complainant v. Entergy Corporation, Entergy Services, Inc., Entergy Louisiana, L.L.C., Entergy Arkansas, Inc., Entergy Mississippi, Inc., Entergy New Orleans, Inc., Entergy Gulf States Respondents; Notice of Complaint

December 21, 2006.

Take notice that on December 18, 2006, pursuant to Rule 206 of the Rules and Practice and Procedure and Sections 205 and 206 of the Federal Power Act, 16 U.S.C. 824d and 824e, Louisiana Public Service Commission (complainant) filed a formal complaint against Entergy Arkansas, Inc. (respondent) seeking remedy for the attempted withdrawal of the respondent from the Entergy System Agreement and a determination that rough production cost equalization shall not be disrupted by any departure of the respondent and that the respondent shall continue to bear the cost responsibility already assigned to it by the Commission's Orders, including the cost associated with a final remedy for cost discrimination found in the Commission's Opinion Nos. 480 and 480-A.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Comment Date: 5 p.m. Eastern Time on January 8, 2007.

Magalie R. Salas,
Secretary.

[FR Doc. E6-22356 Filed 12-28-06; 8:45 am]

BILLING CODE 6717-01-P